DEPARTMENT OF TRANSPORTATION

Federal Aviation Administration

14 CFR Part 73

[Docket No. FAA-2016-9594; Airspace Docket No. 16-ASO-20]

Proposed Establishment of Temporary Restricted Areas R-2920A and R-2920B; Santa Rosa Island, FL

AGENCY: Federal Aviation Administration (FAA), DOT.

ACTION: Notice of proposed rulemaking (NPRM); withdrawal.

SUMMARY: This action withdraws the NPRM published in the Federal Register of February 23, 2017, proposing to establish temporary restricted areas R-2920A and R-2920B, Santa Rosa Island, FL, for the period May 11 to May 18, 2017. The proponent has informed the FAA that plans to conduct hazardous activities have been cancelled; therefore, a requirement no longer exists to establish temporary restricted areas.

DATES: The proposed rule published on February 23, 2017 at 82 FR 11415 is withdrawn as of 0901 UTC, April 28, 2017.

FOR FURTHER INFORMATION CONTACT: Paul Gallant, Airspace Policy Group, Office of Airspace Services, Federal Aviation Administration, 800 Independence Avenue SW., Washington, DC 20591; telephone (202) 267-8783.

SUPPLEMENTARY INFORMATION:

History

An NPRM was published in the Federal Register of February 23, 2017 (82 FR 11415), Docket No. FAA-2016-9594, to establish temporary restricted areas, designated as R-2920A and R-2920B, south of the Elgin Air Force Base Range Complex, in the vicinity of Santa Sosa Island, FL. The temporary restricted areas were proposed to contain hazardous activities to be used for the testing of counter-unmanned aircraft systems capabilities in support of exercise Black Dart 2017, from May 11 to May 18, 2017. The comment period closed on March 27, 2017. The FAA received five comments on the proposal. The proponent has informed the FAA that hazardous testing activities have been cancelled. Therefore, the NPRM is being withdrawn. As a result, the comments received on the proposal are no longer relevant.

List of Subjects in 14 CFR Part 73

Airspace, Prohibited areas, Restricted areas.

The Withdrawal

Accordingly, pursuant to the authority delegated to me, the notice of proposed rulemaking, as published in the Federal Register on February 23, 2017 (82 FR 11415), FR Doc. 2017-03537, is hereby withdrawn.

Authority: 49 U.S.C. 106(f), 106(g); 40103, 40113, 40120; E.O. 10854; 24 FR 9565, 3 CFR, 1959-1963 Comp., p. 389.

Issued in Washington, DC, on April 24, 2017.
Rodger A. Dean, Jr.,
Manager, Airspace Policy Group.

[FR Doc. 2017-08597 Filed 4-27-17; 8:45 am]

BILLING CODE 4910-13-P